NATIONAL AERONAUTICS AND SPACE ADMINISTRATION

[Notice 03-144]

Notice of Information Collection Under OMB Review

AGENCY: National Aeronautics and Space Administration (NASA).

ACTION: Notice of information collection under OMB review.

SUMMARY: The National Aeronautics and Space Administration (NASA) has submitted the following information collection request to the Office of Management and Budget (OMB) for review and approval in accordance with the review procedures of the Paperwork Reduction Act of 1995 (Public Law 104-13, 44 U.S.C. 3506(c)(2)(A)).

DATES: All comments should be submitted by December 3, 2003.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Public Awareness/Opinion Survey for NASA.

OMB Number: 2700-.

Type of review: New collection.

Need and Uses: The analysis of this survey will position NASA to develop a strategy to effectively communicate Agency messages.

Affected Public: Individuals or households; Business or other for-profit; Not-for-profit institutions; Federal Government; State, Local, or Tribal Government.

Number of Respondents: 1,800.

Responses Per Respondent: 1.

Annual Responses: 1,800.

Hours Per Request: 20 minutes.

Annual Burden Hours: 600.

Frequency of Report: Other (one time).

Patricia L. Dunnington,
Chief Information Officer, Office of the Administrator.

[FR Doc. 03-28228 Filed 11-7-03; 8:45 am]

BILLING CODE 7510-01-P